DEPARTMENT OF AGRICULTURE

Forest Service

Southwest Washington Province Advisory Committee Meeting Notice

AGENCY: Forest Service, USDA.

ACTION: Notice of meeting.

SUMMARY: The Southwest Washington Province Advisory Committee will meet on Thursday, April 13, 2006, at the Gifford Pinchot National Forest Headquarters, 10600 NE., 51st Circle, Vancouver, WA 98682. The meeting will begin at 9:30 a.m. and continue until 4 p.m.

The purpose of the meeting is to share information and receive feedback on: Efforts to quantify and monitor biodiversity under the Northwest Forest Plan; the Yakama Nation's timber program; the Gifford Pinchot National Forest's monitoring program, and to share information among Committee members.

All Southwest Washington Province Advisory Committee meetings are open to the public. Interested citizens are encouraged to attend. The “open forum” provides an opportunity for the public to bring issues, concerns, and discussion topics to the Advisory Committee. The “open forum” is scheduled for 1:30 p.m. Interested speakers will need to register prior to the open forum period. The committee welcomes the public's written comments to Committee business at any time.

FOR FURTHER INFORMATION CONTACT: Tom Knappenbeger, Public Affairs Officer, at (360) 891-5005, or write Forest Headquarters Office, Gifford Pinchot National Forest, 10600 NE. 51st Circle, Vancouver, WA 98682.

Dated: March 15, 2006.
Ron Freeman,
Acting Forest Supervisor

[FR Doc. 06-2679 Filed 3-20-06; 8:45 am]

BILLING CODE 3410-11-M